DEPARTMENT OF EDUCATION

Applications for New Awards; Disability Innovation Fund—Creating a 21st Century Workforce of Youth and Adults With Disabilities Through the Transformation of Education, Career, and Competitive Integrated Employment Model Demonstration Project

AGENCY: Office of Special Education and Rehabilitative Services, Department of Education.

ACTION: Notice.

SUMMARY: The U.S. Department of Education (Department) is issuing a notice inviting applications for fiscal year (FY) 2024 for the Disability Innovation Fund (DIF)—Creating a 21st Century Workforce of Youth and Adults with Disabilities Through the Transformation of Education, Career, and Competitive Integrated Employment Model Demonstration Project, Assistance Listing Number 84.421F. This notice relates to the approved information collection under OMB control number 1894-0006, Applications for New Grants under the Rehabilitation Services Administration (RSA).

DATES:

Applications Available: April 9, 2024.

Deadline for Notice of Intent to Apply: April 23, 2024.

Deadline for Transmittal of Applications: July 8, 2024.

Pre-Application Meeting: The Office of Special Education and Rehabilitative Services (OSERS) will post a PowerPoint presentation that provides general information about the Rehabilitation Services Administration's discretionary grants and a PowerPoint presentation specifically about the Disability Innovation Fund: Creating a 21st Century Workforce of Youth and Adults with Disabilities Through the Transformation of Education, Career, and Competitive Integrated Employment Model Demonstration Project at https://ncrtm.ed.gov/grant-info. In addition to posting the PowerPoint, OSERS will conduct a pre-application meeting specific to this competition via conference call to respond to questions. Information about the pre-application meeting will be available at https://ncrtm.ed.gov/grant-info prior to the date of the call. OSERS invites interested applicants to email questions to 84.421F@ed.gov in advance of the pre-application meeting. The teleconference information, including a summary of the 84.421F pre-application meeting will be available at https://ncrtm.ed.gov/grant-info within 10 business days after the pre-application meeting.

Deadline for Intergovernmental Review: September 6, 2024.

ADDRESSES: For the addresses for obtaining and submitting an application, please refer to our Common Instructions for Applicants to Department of Education Discretionary Grant Programs, published in the Federal Register on December 7, 2022 (87 FR 75045) and available at https://www.federalregister.gov/documents/2022/12/07/2022-26554/common-instructions-for-applicants-to-department-of-education-discretionary-grant-programs. Please note that these Common Instructions supersede the version published on December 27, 2021.

FOR FURTHER INFORMATION CONTACT: Cassandra P. Shoffler, U.S. Department of Education, Lyndon Baines Johnson Building, 400 Maryland Avenue SW, Room 4A10, Washington, DC 20202. Telephone: (202) 987-0118. Email: 84.421F@ed.gov.

If you are deaf, hard of hearing, or have a speech disability and wish to access telecommunications relay services, please dial 7-1-1.

SUPPLEMENTARY INFORMATION:

Full Text of Announcement

I. Funding Opportunity Description

Purpose of Program: The purpose of the Disability Innovation Fund (DIF) Program, as provided by the Consolidated Appropriations Act, 2023 (Pub. L. 117-328), is to support innovative (as defined in this notice) activities aimed at increasing competitive integrated employment (CIE) as defined in section 7 of the Rehabilitation Act of 1973 (Rehabilitation Act) (29 U.S.C. 705(5)) ¹ for youth and other individuals with disabilities.

¹ See 34 CFR 361.5(c)(9) for the regulatory definition of “competitive integrated employment,” which further clarifies the definition in the Rehabilitation Act.

Priority: This competition contains one absolute priority. We are establishing the absolute priority for the FY 2024 grant competition and any subsequent year in which we make awards from the list of unfunded applications from this competition, in accordance with section 437(d)(1) of the General Education Provisions Act (GEPA), 20 U.S.C. 1232(d)(1).

Background

In 2018, the Centers for Disease Control and Prevention (CDC) reported that 61 million (one in four or 26 percent) adults in the United States live with a disability (Okoro et al., 2018). During the 2022-23 school year, 7.1 million students, ages 5 through 21, received special education services and/or related services under the IDEA (Source: U.S. Department of Education, EDFacts Data Warehouse (EDW): “IDEA Part B Child Count and Educational Environments Collection”, available at https://data.ed.gov/dataset/idea-section-618-state-part-b-child-count-and-educational-environments/resources). Additionally, during the 2020-21 school year, 1.6 million students with disabilities were served solely under Section 504 of the Rehabilitation Act. (Source: U.S. Department of Education, Office for Civil Rights, 2020-21 Civil Rights Data Collection, available at https://civilrightsdata.ed.gov).²

² The IDEA Part B Child Count and Educational Environments Collection includes all 50 States, the District of Columbia, Puerto Rico, the Outlying Areas (United States Virgin Islands, Guam, American Samoa, and the Commonwealth of Northern Mariana Islands), and the Freely Associated States (Federated States of Micronesia, the Republic of the Marshall Islands, and the Republic of Palau). In addition, if a public school's enrollment for a school year was less than five students for fewer than 60 days, the Office for Civil Rights may exempt that school from Civil Rights Data Collection reporting.

Individuals with disabilities, including youth with disabilities (as defined in this notice), experience diverse disabilities that include physical disabilities (such as mobility impairments or chronic health conditions), sensory disabilities (such as visual or hearing impairments), intellectual disabilities (such as developmental delays or cognitive impairments), and mental health disabilities (such as depression, anxiety, or bipolar disorder). It is important to recognize that all individuals with disabilities have unique strengths, talents, and contributions to offer; and it is essential for service providers to adopt a person-centered approach to support individuals with disabilities to achieve their goals for CIE. This means recognizing their individual needs, preferences, and goals, and involving them in decision-making processes that affect their lives. Supporting self-determination and empowerment are crucial for promoting independence, economic self-sufficiency, and CIE.

The 21st century brings numerous changes that will affect youth and adults with disabilities. As we look to the future, technological innovations can provide new opportunities for individuals with disabilities by improving mobility, communication, learning, daily living activities, education, career training, and CIE. However, it is crucial that these technologies are accessible and affordable, and more importantly, that individuals with disabilities and professionals, including educators (as defined in this notice), service professionals, and employers, are knowledgeable and use, as appropriate, the options available. In addition, with the advancement of technology across all sectors, education, employment, and communities are constantly changing. Advanced technology (as defined in this notice) can result in knowledge-based jobs and support remote work, providing individuals with disabilities increased CIE opportunities.

Additionally, individuals with disabilities, including justice-involved youth with disabilities, youth and adults with acquired disabilities (as defined in this notice), disconnected youth with disabilities (as defined in this notice) and disconnected adults with disabilities (as defined in this notice), may benefit from a range of services, and supports to address their unique needs and challenges to ensure access to CIE. Examples of services and supports include: (1) receiving case management services (i.e., assistance with coordinating services and supports); (2) accessing high quality education and vocational training programs to acquire the necessary skills and knowledge to secure CIE, including opportunities in advanced technology careers; (3) obtaining counseling and mental health services needed to address issues and improve overall well-being and to help ensure the ability to obtain and maintain CIE; (4) obtaining rehabilitation services such as physical therapy, occupational therapy, and speech therapy to regain or improve functional abilities and independence to obtain or maintain CIE; (5) receiving assistance with job placement, job coaching, and ongoing support in the workplace; (6) securing safe and stable housing, as well as services needed to address housing needs necessary to improve quality of life, which can be a barrier to CIE; (7) connecting with mentors or peers who have similar experiences for guidance, support, and a sense of belonging, the lack of which can be a barrier to obtaining or maintaining CIE; and (8) identifying accessible transportation options to increase access to education, CIE, healthcare, and other essential services. However, there are challenges in ensuring all youth and adults with disabilities receive the support, education, training, and advocacy they may need to succeed in the workplace. There are also opportunities to address these challenges by exploring new ideas, methods, or technologies to improve existing processes, products, or services that have the potential to affect how many of these individuals with disabilities achieve their CIE goals.

The focus of this program on increasing CIE is aligned to the Administration's Good Jobs Initiative, which is led by the Department of Labor and focused on providing information to workers, employers, and government to promote good jobs for all workers. This includes eight Good Jobs Principles that create a framework for workers, businesses, labor unions, advocates, researchers, State and local governments, and Federal agencies for a shared vision of job quality. The Department encourages applicants to this grant program to consider how these principles could further support increasing CIE opportunities for individuals with disabilities. Additional information about the Good Jobs Initiative is available at https://www.dol.gov/general/good-jobs.

Absolute Priority: For FY 2024 and any subsequent year in which we make awards from the list of unfunded applications from this competition, this priority is an absolute priority. Under 34 CFR 75.105(c)(3), we consider only applications that meet this priority.

This priority is:

Creating a 21st Century Workforce of Youth and Adults with Disabilities through the Transformation of Education, Career, and CIE.

Purpose of Priority

The purpose of this priority is to fund model demonstration projects designed to develop, implement, refine (as defined in this notice), evaluate, and disseminate, for easy adoption, new or substantially improved model strategies or programs to transition youth and adults with disabilities to CIE in any one of five topic areas, or a sixth topic, for field-initiated topic areas that includes the opportunity to address more than one topic as outlined in this notice.

Topic Areas

Within this absolute priority, the Secretary intends to support innovative model demonstration projects under the following topic areas: (1) Broadening Access to Advanced Technology Careers and Creating A 21st Century Workforce of Youth and/or Adults with Disabilities Leading to CIE; (2) Innovative Applications (as defined in this notice) of Advanced Technology to Support Youth and/or Adults with Disabilities Leading to CIE; (3) Justice-Involved Youth with Disabilities—Early Intervention (as defined in this notice) and Reintegration (as defined in this notice) from the Juvenile Justice System to the Community, Leading to CIE; (4) Early Intervention and Workforce Reintegration Strategies for Youth and/or Adults with Acquired Disabilities that Lead to CIE; (5) Early Intervention and Workforce Reintegration Strategies for Disconnected Youth and/or Disconnected Adults with Disabilities that Lead to CIE; and (6) Field Initiated, under which applicants address innovative topic areas not otherwise included in this priority, or combine two or more topic areas described in this priority into one application. If an applicant intends to address multiple topic areas, the applicant must combine the topic areas in one application and submit it under topic area 6, Field Initiated. For example, an applicant could apply under topic area 6 with a proposed project that combines topic area 1 with any of topic areas 2 to 5. Multiple applications from a single applicant will not be reviewed. If multiple applications are submitted by a single applicant, the last completed application submitted will be reviewed.

Note: The numbering of the topic areas does not reflect an established hierarchy or preference among the topic areas.

Note: The geographical distribution of projects factor will be applied to fund applications out of rank order if the top-ranked applications do not represent a geographical distribution throughout the country.

Note: The topic area distribution of projects factor will be applied to fund applications out of rank order to ensure a range of topic areas are funded.

For each of the topic areas, we identify a background section, if applicable, and a section that sets forth the requirements for projects that address the topic area.

Topic Area 1: Broadening Access to Advanced Technology Careers and Creating a 21st Century Workforce of Youth and/or Adults with Disabilities Leading to CIE.

Background

Advanced and emerging technology careers require specialized knowledge and skills in areas such as computer science, engineering, data analysis, artificial intelligence, microelectronics, cybersecurity, and robotics. Demand for workers in advanced technology fields is likely to increase in the next 10 years (Ellingrud et al., 2023). At the same time, these advanced technologies, and the products they enable will cause disruption across nearly every sector of the economy. Both trends have major impacts on CIE.

According to a report by the World Economic Forum, it is predicted that 97 million new roles will be created, as humans, machines, and algorithms increasingly work together (Masterson, 2022). Understanding how advanced technology influences the strategies to support high-quality CIE opportunities for youth with disabilities and adults with disabilities is crucial to global economic competitiveness. The rise of advanced technology and the automation that often comes with it is transforming the workplace. Positions in nearly every industry are evolving into new roles and responsibilities that require new skills. These shifts may provide new opportunities for youth with disabilities and adults with disabilities to participate in this critical area of the workforce. Doing so will require using all available strategies, including those that leverage the products created by advanced technology fields, to remove barriers that have traditionally made it difficult for youth with disabilities and adults with disabilities to find and maintain CIE in advanced technology careers.

Requirements

A project in this topic area must assist youth with disabilities and/or adults with disabilities to: (1) obtain certifications or participate in training (education or employment) to help secure CIE in a changing job market and employment landscape; and (2) identify and secure CIE in advanced technology careers that are in high demand and pay a livable wage, such as computer science, engineering, data analysis, artificial intelligence, microelectronics, cybersecurity, machine learning, machine programming, and robotics. Project activities must include, but are not limited to: (1) Employer Engagement and Partnerships (as defined in this notice): Developing employer engagement and creating partnerships in advanced technology industries to support project participants interested in pursuing CIE in these areas; (2) Advanced Technology Utilization: Incorporating advanced technology into work-based learning opportunities and CIE experiences in these areas; (3) Advanced Technology Training: Developing, facilitating, incorporating and implementing training of employers and personnel, such as educators and service professionals, in strategies to transform service delivery to support project participants moving toward CIE in advanced technology careers; and (4) Removing Barriers to Entry: Providing flexible, personalized, and/or interactive learning experiences (e.g., online learning platforms, virtual reality and augmented reality technologies, artificial intelligence and machine learning technologies, mobile learning), to reduce barriers to entry into CIE.

Topic Area 2: Innovative Applications of Advanced Technology to Support Youth with Disabilities and/or Adults with Disabilities Leading to CIE.

Background

Advanced technology may help improve the independence for individuals with disabilities at work, school, and in the community (Weitzman, 2023). It can also influence the delivery of services and trainings, daily living skills development and devices, communication strategies and devices, information access for youth with disabilities and/or adults with disabilities with sensory impairments, or other types of assistive devices or technology.

Further, advanced technology plays a role in helping youth with disabilities and/or adults with disabilities obtain and be successful in jobs across all sectors (e.g., Healthcare, Information Technology, Finance and Banking, Education, Manufacturing, Retail and Hospitality, Construction, Professional Services, Transportation and Logistics) of the economy (Paige 2023). For example, through accessible and flexible options like online learning platforms, webinars, virtual training programs, virtual reality and augmented reality, artificial intelligence, machine learning, and mobile learning, youth with disabilities and/or adults with disabilities have opportunities to re-skill or up-skill and improve their competitiveness in the job market. In addition, advanced technology utilization can increase access to a wide range of job opportunities. Applications such as online job portals, professional networking platforms, and digital recruitment platforms make it possible to identify promising CIE opportunities. Through high-speed internet, video conferencing tools, and online collaboration platforms, advanced technology can also help enable remote work, increasing the opportunities for youth with disabilities and/or adults with disabilities who may have limitations related to commuting or working in a traditional office setting. Advanced technology facilitates networking and professional development opportunities through professional networking platforms, online professional learning communities, and social media platforms that allow youth with disabilities and/or adults with disabilities to connect with professionals in their field, join industry-specific groups, and access resources and mentorship opportunities that can help them keep current or advance in CIE.

Requirements

A project in this topic area must focus on using advanced technology, which could include innovative and promising techniques, tools, and systems, to create or expand opportunities for youth and/or adults with disabilities to prepare for, identify, secure, obtain, and maintain CIE in any employment sector. Activities must include, but are not limited to, (1) Engagement: Engaging project participants, educators, service professionals, and employers to better understand the ways advanced technology can address their needs; (2) Personalized Advanced Technology (as defined in this notice): Incorporating personalized advanced technology into project participants' activities of daily living, education, training and employment; (3) Training on Advanced Technology: Identifying, developing, and implementing training of project participants, service professionals, educators, and employers, in the use of advanced technology; (4) Advanced Technology to Support Partnerships: Utilizing innovative and promising strategies, including virtual platforms, that can support connection and collaboration between diverse stakeholders (e.g., State agencies, local agencies, employers, community based organizations, or education/training institutions) to support project participants in obtaining CIE.

Topic Area 3: Justice-Involved Youth with Disabilities—Early Intervention and Workforce Reintegration from the Juvenile Justice System to the Community Resulting in CIE.

Background

Data from the American Civil Liberties Union (2024) indicates that roughly 60,000 youth under age 18 are incarcerated in juvenile jails and prisons in the United States. It is estimated that the percentage of incarcerated youth with disabilities, that reside in the juvenile corrections facilities, typically range from 30 percent to 60 percent, with some estimates as high as 85 percent (U.S. Department of Education, 2017). According to the National Center on Education, Disability and Juvenile Justice, more than one in three youths entering juvenile justice or young adult corrections facilities have previously received special education services. This highlights the disproportionate representation of youth with disabilities in juvenile justice populations (National Center on Education, Disability and Juvenile Justice, 2021). Compared to youth without disabilities, youth with disabilities encounter the juvenile justice system at an earlier age, stay for a longer period, and experience additional challenges as they reintegrate into the community (Taylor, 2011).

It is vital to recognize the distinct obstacles faced by youth with disabilities in the juvenile justice system and prioritize meeting their needs to ensure equitable treatment and inclusive support (McLellan et al., 2022). For example, research has shown that a significant number of individuals impacted by the criminal justice system have dyslexia, which can negatively impact academic and behavioral outcomes. Therefore, screening for dyslexia and offering related intervention services as appropriate is critical to promoting positive outcomes for youth with disabilities (Cassidy et al., 2021). By understanding and addressing these types of issues, we can strive for a system that provides appropriate accommodations and services to all youth with disabilities. Juvenile justice corrections facilities often face challenges providing special education services and meeting the needs of youth with disabilities. This is in part due to the complexities of the population (e.g., the high numbers of youth with disabilities and the high mobility of youth), the physical context (e.g., restrictions associated with providing education in a secured facility), and the system (e.g., poor linkages among schools and juvenile justice facilities, including inability of facilities to get educational records from previous educational placements) (Houchins et al., 2010). Due to these challenges, youth with disabilities in the juvenile justice system are at risk for a range of negative outcomes, including struggling academically, not graduating high school or being able to access postsecondary education opportunities, recidivism, and unemployment (Taylor, 2011). The reintegration of youth involved in the juvenile justice system is a critical component of ensuring their successful transition back into society; however, there are challenges associated with reintegrating these youth into school or community settings, including CIE, following a stay in a residential or juvenile corrections facility (Trout et al., 2008).

Transitioning from the juvenile justice system to CIE can be a challenging process for youth with disabilities. However, there are several strategies and resources available to support their successful transition: (1) Vocational rehabilitation (VR) services may be available to assist youth with disabilities in obtaining and maintaining CIE. These services provide a range of supports, including vocational assessment, career counseling, pre-employment transition services for school-aged youth, job training, job placement assistance, and ongoing support in the workplace. (2) For youth with disabilities who are still school age, an individualized education program (IEP) or a plan under section 504 of the Rehabilitation Act of 1973 can help outline specific goals, accommodations, and services to support their transition to CIE. The IEP team, which includes the student, parents or caregivers, educators, and other professionals, can work together to develop a plan that addresses the student's unique needs and goals. (3) Job readiness programs specifically designed for youth with disabilities can provide training and support in areas such as resume writing, interview skills, workplace etiquette, and job search strategies. These programs can help youth with disabilities develop the necessary skills and confidence to enter the workforce. (4) Work-based learning opportunities, such as internships, apprenticeships, and job shadowing, can provide valuable hands-on experience and exposure to different career paths. These opportunities allow youth with disabilities to gain practical skills, explore their interests, and make connections with potential employers. It is important for youth with disabilities to understand their rights regarding disclosure of their disability and prepare to advocate for the accommodations they need to succeed in CIE. (5) Mentoring programs and peer support groups can provide youth with disabilities with guidance, encouragement, and role models who have successfully navigated the transition from juvenile justice confinement to CIE. These relationships can help youth with disabilities build confidence, develop important skills, and access valuable networks. (6) Connecting with community resources, such as disability advocacy organizations, parent organizations, vocational training centers, and employment agencies, can provide additional support and guidance during the transition process. These organizations can offer specialized services, workshops, and resources tailored to the needs of youth with disabilities. By using various strategies and resources, youth with disabilities can increase their chances of successfully transitioning from the juvenile justice system to CIE and achieve their career goals.

Requirements

A project in this topic area must focus on early intervention and reintegration strategies for justice-involved youth with disabilities designed to lead to CIE and otherwise improve CIE opportunities for justice-involved youth with disabilities who are returning to their community. Activities must include, but are not limited to: (1) Plans: Develop multifaceted pre- and post-release reentry plans for project participants transitioning from the juvenile justice system to the community, including but not limited to, providing and connecting to transition services, community services, trauma-informed services, wraparound support (as defined in this notice) and life coaching services (as defined in this notice) to assist in obtaining and maintaining CIE; (2) Skills and Tools: Identify the skills and tools necessary to improve opportunities for CIE and reduce recidivism once project participants return to the community; (3) Partnerships: Develop and expand community-based partnerships and linkages that provide wrap-around supports to project participants that foster positive reentry into the community and create opportunities for CIE; (4) Risk and Needs Factors: Identify, assess, and address general risk and need factors to address prevention and early intervention for project participants vulnerable to entering or reentering the juvenile justice system, including by developing models to navigate various systems (e.g., transition from juvenile justice to community services); (5) Professional Development Trainings: Identify, develop, and implement training opportunities, including but not limited to service professionals, stakeholders, and employers, involved in the community reintegration process for project participants transitioning from the juvenile justice system on issues, tools, and resources; (6) Transition Services: Identify transitional services to assist reentering youth with disabilities to successfully reintegrate into communities, including but not limited to educational services, postsecondary education and training, employment, housing, parent and family information and services, mentoring, treatment, and counseling, and social activities which can lead to achieving CIE; and (7) Project Advisory Committee: Develop a project advisory committee that includes representation from the target population to be served by the project, partners (as defined in this notice) relevant to the project, and project activities (e.g., State agencies, employers, youth service programs, parent organizations, local agencies, support systems).

Topic Area 4: Early Intervention and Workforce Reintegration for Youth and/or Adults with Acquired Disabilities Leading to CIE.

Background

While some youth and adults with disabilities have congenital disabilities that they have lived with since birth, others have acquired disabilities through various means such as traumatic accidents, diagnosis of chronic illnesses, or through other life-changing means (Okoro et al, 2018). Examples of acquired disabilities include but are not limited to spinal cord injuries, traumatic brain injury, vision loss, and Long COVID. An individual's life, both physically and mentally, can be significantly altered after acquiring a disability.

The differences between a youth and/or adult with a congenital disability and a youth and/or adult who acquires a disability later in life can vary depending on the individual and the specific disability. For youth and/or adults with a congenital disability, the disability is all the youth or adult has known, and they may have a different perspective on what is considered a limitation or barrier (Bateman, 2023). Those who acquire a disability later in life may have an awareness of the differences between their previous abilities and their current abilities. It is important to note that these differences are generalizations, and each individual's experience may vary (Bateman, 2023). The responses to a disability can be influenced by various factors, including the type and severity of the disability, social support, and individual differences in coping mechanisms and can significantly impact CIE.

As an individual with an acquired disability navigates changes in their circumstances, there are potential new challenges to face related to education, employment, social well-being, and health, including a need for mental health support. Acquired disabilities can present unique challenges when it comes to finding and maintaining CIE. However, with the right support and accommodations, youth and adults with acquired disabilities can pursue meaningful and fulfilling CIE opportunities. There are several considerations and strategies to keep in mind when working with youth and adults with acquired disabilities who are seeking to obtain or maintain CIE, such as the importance of advocating for oneself and communicating needs to employers (Morgan, 2021). This may involve discussing accommodations, such as reasonable modifications to the work environment and flexible work arrangements, that can help them perform their job duties effectively (U.S. Department of Labor, 2024). In addition, VR services are available to assist youth and adults with disabilities in obtaining and maintaining CIE. These services can provide vocational assessments, career counseling, job training, job placement assistance, and ongoing support in the workplace. When searching for jobs, youth and/or adults with acquired disabilities can focus on industries or positions that align with their abilities and interests. Networking, attending job fairs, and using online job boards and disability-specific job portals can be helpful in finding suitable CIE opportunities. Building a support network in the workplace can also be beneficial for youth and/or adults with acquired disabilities. A support network may include colleagues, supervisors, and mentors who can provide guidance, understanding, and assistance when needed. Lastly, youth and/or adults with acquired disabilities can continue to enhance their skills and knowledge through professional development opportunities, such as attending workshops, conferences, or online courses to increase marketability.

Studies have shown that early intervention, providing services shortly after a disability is acquired, is critical to promoting improved employment outcomes (Smalligan & Boyens, 2018). Wickizer et al. (2018) found that providing services to injured workers in the first 1-2 months following injury is critical to reducing the likelihood individuals exit the workforce and transition to long-term disability. Therefore, it has been found that efforts to more quickly identify, enroll and provide services to individuals with disabilities in vocational rehabilitation programs have increase employment and wage outcomes as well (Martin & Sevak, 2020).

Requirements

A project in this topic area must focus on securing CIE for youth and/or adults with acquired disabilities, by addressing the unique employment, training, emotional, cognitive, and life adjustment factors experienced by youth or adults who acquired a disability from an accident or illness in a timely manner. Activities must include, but are not limited to: (1) Outreach and Enrollment: Develop, implement, and conduct outreach and enrollment strategies, including but not limited to promoting early intervention to project participants that fall within 6 months of an acquired or identification of acquired disability; (2) Transition and Reintegration Services: Identify support services (e.g., personal care assistance services, education support services, independent living services, counseling and support groups, government programs, employment services, disability support services, housing and transportation services, rehabilitation and medical services, and government programs, such as VR services) and resources (e.g., nonprofit organizations, assistive technology centers, advocacy services, and online resources) to create a seamless transition to CIE for project participants, including identification and utilization of advanced technology supports and identification of advanced technology career opportunities leading to CIE; (3) Family Engagement and Social Support: Partner with service providers supporting project participants to achieve their goals of CIE (e.g., Designated State unit (DSU) for VR services, State educational agencies, parent organizations, community-based services; local educational agencies; and other local agencies); (4) Advanced Technology and Accommodations: Explore, identify, and utilize advanced technology and workplace accommodations to enable project participants to obtain and/or maintain CIE. This may include adaptive equipment and/or devices, computer software, ergonomic modifications, remote monitoring systems, cognitive assistive technology, mobility aids, and other advanced technology, including artificial intelligence, that help project participants overcome barriers and maximize productivity; and (5) Professional Development Training: Identify, develop, and implement professional development training opportunities, including using virtual reality training opportunities, for service professionals.

Topic Area 5: Early Intervention and Workforce Reintegration for Disconnected Youth and/or Disconnected Adults with Disabilities Leading to CIE.

Background

Disconnected youth with disabilities and disconnected adults with disabilities often face multiple barriers (e.g., criminal records, lack of academic accreditation) that prevent them from actively participating in education, employment, or training, and can be at risk of experiencing negative outcomes such as unemployment, poverty, and social disconnection (Lewis et al., 2019). There are several factors that can contribute to youth or adults becoming disconnected. For example, disconnected youth and disconnected adults may not have completed a specific level of education, such as high school or college for various reasons, limiting opportunities for further education or CIE. Economic factors, such as poverty, limited job opportunities, or financial instability, can make it difficult for disconnected youth and disconnected adults to find and maintain CIE. Disconnected youth and disconnected adults may not have had the opportunity to receive the necessary training to enter the workforce or pursue further education. This can be due to limited access to quality education or training programs. Lastly, mental health challenges, substance abuse, and involvement in the juvenile justice and criminal justice systems can also contribute to youth with disabilities and adults with disabilities becoming disconnected. Addressing the issue of disconnected youth with disabilities and disconnected adults with disabilities requires a comprehensive and multifaceted approach.

There are numerous strategies that can be used to help re-engage disconnected youth and disconnected adults: (1) Providing accessible and relevant education and training programs that provide the skills and qualifications needed for CIE; (2) Offering mentoring programs and support services that provide guidance, encouragement, and assistance in navigating education and CIE opportunities; (3) Creating high-quality job placement programs, apprenticeships, and internships that provide hands-on experience and opportunities for skill development; (4) Providing comprehensive support services, such as counseling, mental health services, substance abuse treatment, and housing assistance; (5) Implementing targeted outreach efforts to identify and engage disconnected youth with disabilities and disconnected adults with disabilities, including those who may be unknown or hard to reach; and (6) Collaboration among government agencies, community organizations, educational institutions, and employers to re-engage disconnected youth with disabilities and disconnected adults with disabilities. By addressing the barriers and providing the necessary supports and opportunities, it is possible to re-engage disconnected youth with disabilities and disconnected adults with disabilities to transition into education, employment, and training, leading to improved outcomes.

Requirements

A project in this topic area must focus on securing CIE for disconnected youth with disabilities and/or disconnected adults with disabilities, by addressing the unique employment, training, emotional, cognitive, and life adjustment factors experienced by disconnected youth and/or disconnected adults with disabilities. Activities must include, but are not limited to: (1) Transition and Reintegration Services: Identify support services and resources to create a seamless transition to CIE for project participants; (2) Family Engagement and Social Support: Partner with service providers supporting project participants to achieve their goals for CIE (e.g., DSU for VR services, State educational agencies, parent organizations, community-based services, local educational agencies, other local agencies); (3) Pre-employment Related activities: Provide pre-employment related activities, such as career exploration, resume writing and job search skills, interview preparation, soft skills development, job readiness training, networking and mentoring, internships, apprenticeships, and job trials, to prepare project participants for the workforce by developing essential skills, knowledge, and abilities needed to obtain and maintain CIE; (4) Professional Development: Develop and implement professional development trainings specific to the professionals serving project participants; (5) Transition Coordinators/Career Navigators: Create, identify, and provide a wide variety of services to project participants pertaining to early intervention and reintegration, including career planning, exploration, and counseling; educational planning; support to navigate systems; learner skill building; and CIE placement; (6) Project Advisory Committee: Develop a project advisory committee that includes representation from the target population to be served by the project and partners relevant to the project and project activities (e.g., State agencies, local agencies, employers, youth service programs, support systems); and (7) Advanced Technology: Identify and use advanced technology to enhance accessibility, education, and CIE for project participants, through the identification and development of strategies that will support access to trainings and education to equip them with the skills needed for CIE.

Topic Area 6: Field Initiated.

Requirements

A field-initiated project must (1) address an innovative topic area not otherwise included in this priority, or (2) combine two or more topic areas described in this priority into one application. If an applicant intends to address multiple topic areas, the applicant must combine the topic areas in one application and submit it under Topic Area 6, Field Initiated.

General Application Requirements

Applicants must identify the specific topic area (1, 2, 3, 4, 5, or 6) under which they are applying as part of the competition title on the application cover sheet (SF form 424, line 4).

Application Requirements

Under this priority, the model demonstration project must, at a minimum, meet the following application requirements.

(a) Logic model (as defined in this notice). In the narrative section of the application under “Quality of the Project Design”, include a logic model for the proposed project as described in the following paragraphs. The logic model must describe how—

(1) The proposed project will achieve its intended outcomes that depicts, at a minimum, the goals, activities, outputs, and intended outcomes of the proposed project.

(2) The proposed project components (as defined in this notice) are intended to affect the proposed project outcomes. Applicants must specifically note the proposed project activities that are supported by evidence that demonstrates a rationale and are depicted in the logic model.

Note: The following website provides more information on logic models: “Logic models: “Logic models: A tool for designing and monitoring program evaluations” https://ies.ed.gov/ncee/edlabs/regions/pacific/pdf/rel_2014007.pdf.

(b) Proposed Project Management Plan. In the narrative section of the application under “Quality of the management plan,” include a proposed project management plan as described in the following paragraphs. The proposed project management plan must describe how—

(1) The intended proposed project outcomes will be achieved on time and within budget. To address this requirement, the applicant must provide a proposed project management plan that includes—

(i) Clearly defined responsibilities for key project personnel, including level of effort, consultants, and subcontractors, as applicable;

(ii) Timelines, milestones, and deliverables for accomplishing the project tasks;

(iii) A description of how time commitments of proposed key project personnel and any consultants and subcontractors will be allocated and how these allocations are appropriate and adequate to achieve the intended proposed project outcomes;

(iv) A description of how the products and services provided are of high quality, evidence-based, relevant, and useful to recipients; and

(v) A detailed description of how activities will continue to be sustained once the grant performance period is over.

(c) Proposed Project Evaluation Plan. In the narrative section of the application under “Quality of the project evaluation,” include a proposed project evaluation plan for the proposed project as described in the following paragraphs. The proposed project evaluation plan must describe measures of progress in implementation, including the criteria for determining the extent to which the proposed project's products and services have met the goals for reaching its target population; measures of intended outcomes or results of the proposed project activities to evaluate those activities; and how well the goals or objectives of the proposed project, as described in its logic model, have been met. Grantees must dedicate sufficient funds throughout the project period to cover the costs of developing, refining, and implementing the project evaluation plan, as well as the costs associated with collaborating throughout the period of performance with an independent evaluator identified by RSA. The proposed project evaluation plan and process must—

(1) Identify formative and summative evaluation questions that align to the logic model;

(2) Describe how progress in and fidelity of implementation, as well as project outcomes, will be measured to answer the evaluation questions;

(3) Specify the measures and associated instruments or sources for data appropriate to the evaluation questions. Include information regarding reliability and validity of measures where appropriate;

(4) Describe strategies for analyzing data and how data collected as part of this proposed project will be used to inform and refine the logic model and evaluation plan, including subsequent data collection;

(5) Include a timeline for conducting the evaluation and include staff assignments for completing the plan. The timeline must indicate that data will be available bi-annually, for the annual performance report (October 1-March 31) and end of year performance report (October 1-September 30);

(6) Describe how the proposed project will collect data, during the project performance period, regarding the project participants, including but not limited to, demographics (e.g., gender, race, ethnic group), disability type, pre- and post-project participation, employment and wage outcomes, and regional information;

(7) Describe how the proposed project will identify and evaluate the innovative strategies that were effective for systemic change in partnerships (e.g., relationship building, resource sharing, funding mechanism for services);

(8) Describe how the proposed project will evaluate the relationship between project participants' engagement with or use of specific practices and strategies implemented by the proposed project and key outcomes;

(9) Describe how the proposed project will make broadly available the results of any evaluations conducted of funded activities, digitally and free of charge, through formal (e.g., peer reviewed journals) or informal (e.g., newsletters) mechanisms;

(10) Describe how the proposed project will ensure that data from the grantee's evaluation can be made available to any evidence building support contractor identified by RSA consistent with applicable privacy requirements;

(11) Describe how the proposed project will leverage data collection, analysis, and research methodologies to result in an evaluation that can build evidence; and

(12) Include an assurance that the project will cooperate on an ongoing basis with any technical assistance provided by the Department or its contractors and comply with the requirements of any other evaluation of the program conducted by the Department, including the need to share project data.

(d) Proposed Project website. In the narrative section of the application, include a description of the proposed project website as described in the following paragraph. The narrative must describe how—

(1) The proposed project will develop (year 1), refine, and implement (years 2-5) a project website that is a centralized location for maintaining age-appropriate materials for project participants and resources for service professionals to include, but not limited to: project details, project results, and resources for project participants that will be incorporated into the applicant's website at the end of the proposed project.

(e) Non-DSU for VR Eligible Applicants: For eligible applicants who are not DSU for VR, how the project will share progress and outcomes of the proposed project with the DSU for VR; and as appropriate, how the project will work to ensure that youth with disabilities and/or adults with disabilities are referred to the DSU for VR for services.

References

American Civil Liberties Union. (2024). America's addiction to juvenile incarceration: State by State. ACLU. https://www.aclu.org/issues/juvenile-justice/youth-incarceration/americas-addiction-juvenile-incarceration-state-state.

Bateman, J. (2023, November 7). Is there a distinction between those who acquire disabilities and those who are born with them? The Mobility Resource. https://www.themobilityresource.com/blog/post/were-you-born-a-crip-or-did-you-become-one/.

Brown, J.S., Finney, M., Korgaonkar, N., McMillan, M., & Perkins, C. (2023, December 19). The impact of Generative AI on Black Communities. McKinsey & Company. https://www.mckinsey.com/bem/our-insights/the-impact-of-generative-ai-on-black-communities.

Cassidy, L., Reggio, K., Shaywitz, B.A., Holahan, J.M., & Shaywitz, S.E. (2021). Dyslexia in Incarcerated Men and Women: A New Perspective on Reading Disability in the Prison Population. Journal of Correctional Education, 72(2), 61-81. https://www.proquest.com/scholarly-journals/dyslexia-incarcerated-men-women-new-perspective/docview/2622815331/se-2

Ellingrud, K., Sanghvi, S., Dandona, G.S., Madgavkar, A., Chui, M., White, O., & Hasebe, P. (2023, July 26). Generative AI and the future of work in America. McKinsey & Company. https://www.mckinsey.com/mgi/our-research/generative-ai-and-the-future-of-work-in-america.

Houchins, D.E., Jolivette, K., Shippen, M.E., & Lambert, R. (2010). Advancing high-quality literacy research in juvenile justice: Methodological and practical considerations. Behavioral Disorders, 36(1), 61-69. http://www.jstor.org/stable/43153831.

Lewis, K., Burd-Sharps, S., & Ofrane, B. (2018, April 3). Youth disconnection rates highlight structural barriers to achievement in the US. ITEMS Social Science Research Council. https://items.ssrc.org/from-our-programs/youth-disconnection-rates-highlight-structural-barriers-to-achievement-in-the-us/.

Martin, Frank and Sevak, Purvi. `Implementation and Impacts of the Substantial Gainful Activity Project Demonstration in Kentucky'. 1 Jan. 2020: 297-305.

Masterson, V. (Ed.). (2022, May 25). From medicine drones to coral cleaners: 3 “jobs of the future” that are already here. World Economic Forum. https://www.weforum.org/agenda/2022/05/robots-help-humans-future-jobs/.

McLellan, S.E., Mann, M.Y., Scott, J.A., & Brown, T.W. (2022). A blueprint for change: guiding principles for a system of services for children and youth with special health care needs and their families. Pediatrics, 149 (Supplement 7). https://publications.aap.org/pediatrics/article-abstract/149/Supplement%207/e2021056150C/188225.

Morgan, P. (2021, April 27). Employee self-advocacy: How to talk to your employer about your disability. Forbes. https://www.forbes.com/sites/paulamorgan/2021/04/27/employee-self-advocacy-how-to-talk-to-your-employer-about-your-disability/.

National Center for Education Statistics. (2023). Students With Disabilities. National Center for Education Statistics. https://nces.ed.gov/programs/coe/indicator/cgg/students-with-disabilities#:~:text=In%202021%E2%80%9322%2C%20the%20number,of%20all%20public%20school%20students.

National Center on Education, Disability and Juvenile Justice. (2021). https://www.air.org/project/national-center-education-disability-and-juvenile-justice-edjj.

Okoro, C., Hollis, N., Cyrus, A., & Friffin-Blake, S. (2018, August 16). Prevalence of disabilities and health care access by disability status and type among adults—United States, 2016. Centers for Disease Control and Prevention. https://www.cdc.gov/mmwr/volumes/67/wr/mm6732a3.htm?s_cid=mm6732a3_w.

Paige, C. (2023, April 21). 7 Ways Technology Can Help You in your Career. IT Briefcase. https://www.itbriefcase.net/7-ways-technology-can-help-you-in-your-career.

Smalligan, J., & Boyens, C. (2018, October). Expanding early intervention for newly ill and injured workers. Urban Institute. https://www.urban.org/sites/default/files/publication/99250/expanding_early_intervention.pdf.

Taylor, K. (2011). A summary of research on Youth with Disabilities & the Juvenile Justice System. https://ies.ed.gov/ncser/pdf/JuvenileJustice.pdf.

Trout, A.L., Hagaman, J., Casey, K., Reid, R., & Epstein, M.H. (2008). The academic status of children in out-of-home care: A review of the literature. Children and Youth Services Review, 30(9), 979-994. Waldman, B., Garey, M., Rader, R., & Perlman, S.P. (2016, June 29). Children with acquired disabilities. Special Needs Resource. https://www.eparent.com/wellness/children-with-acquired-disabilities/.

U.S. Department of Education. (2017, May 23). Supporting Youth with Disabilities in Juvenile Corrections. Office of Special Education and rehabilitative services blog. https://sites.ed.gov/osers/2017/05/supporting-youth-with-disabilities-in-juvenile-corrections/.

U.S. Department of Education. (2020, October). 2017-18 Civil Rights Data Collection—The use of restraint and seclusion on children with disabilities in K-12 schools. Office of Civil Rights. https://www2.ed.gov/about/offices/list/ocr/docs/restraint-and-seclusion.pdf.

U.S. Department of Labor. (2024). Job accommodations. https://www.dol.gov/general/topic/disability/jobaccommodations.

Weitzman, T. (2023, October 5). Empowering individuals with disabilities through AI technology. Forbes. https://www.forbes.com/sites/forbesbusinesscouncil/2023/06/16/empowering-individuals-with-disabilities-through-ai-technology/?sh=11e84d276c73.

Wickizer, Thomas M. Ph.D.; Franklin, Gary M. MD.; Fulton-Kehoe, Deborah Ph.D.§ . Innovations in Occupational Health Care Delivery Can Prevent Entry into Permanent Disability: 8-Year Follow-up of the Washington State Centers for Occupational Health and Education. Medical Care 56(12): p 1018-1023, December 2018. | DOI: 10.1097/MLR.0000000000000991.

Definitions

For the FY 2024 grant competition and any subsequent year in which we make awards from the list of unfunded applications from this competition, in accordance with section 437(d)(1) of GEPA, 34 CFR 77.1, and 2 CFR 200.1, we establish definitions of “Acquired disabilities,” “Advanced Technology,” “Disconnected adult with a disability,” “Disconnected youth with a disability,” “Early Intervention,” “Educator,” “Innovative,” “Innovative Applications,” “Indian Tribe,” “Life Coaching Services,” “Logic Model,” “Nonprofit,” “Nonpublic,” “Partners,” ”Partnerships,” “Personalized Advanced Technology,” “Project Components,” “Public,” “Refine,” “Reintegration,” “Wraparound support,” and “Youth with disabilities”. The authority for each definition is noted following the text of the definition.

“Acquired disabilities” means physical, mental, sensory, or cognitive impairments, typically resulting from injury, illness, or medical conditions that are not presented at birth but acquired later in life. (Section 437(d)(1) of GEPA.)

“Advanced Technology” means cutting edge innovations, tools, systems, or solutions that represent the latest advancements in science, engineering, and technology.

“Disconnected adult with a disability” means an individual with a disability, over the age of 24 who may be from a low-income background, experiences homelessness, is involved in the corrections system, or is not working. (Section 437(d)(1) of GEPA.)

“Disconnected youth with a disability” means an individual with a disability between the ages 14 and 24, who may be from a low-income background, experiences homelessness, is in foster care, is involved in the justice system, or is not working or not enrolled in (or at risk of dropping out of) an educational institution. (Section 437(d)(1) of GEPA.)

“Early intervention” means a timely and systematic provision of support and services to individuals with disabilities with the goal of identifying, assessing, and addressing potential challenges and/or concerns as early as possible, using strategies and techniques that offer redirection and rehabilitation in order to promote positive outcomes whereby leading to CIE. (Section 437(d)(1) of GEPA.)

“Educator” means an individual who is an early learning educator, teacher, principal, or other school leader, specialized instructional support personnel (e.g., school psychologist, counselor, school social worker, early intervention service personnel), paraprofessional, or faculty. (Section 437(d)(1) of GEPA.)

“Indian Tribe” means any Indian tribe, band, Nation, or other organized group or community, including any Alaska Native village or regional or village corporation as defined in or established pursuant to the Alaska Native Claims Settlement Act (43 U.S.C. Chapter 33), which is recognized as eligible for the special programs and services provided by the United States to Indians because of their status as Indians (25 U.S.C. 450b(e)). See annually published Bureau of Indian Affairs list of Indian Entities Recognized and Eligible to Receive Services. (2 CFR 200.1)

“Innovative” means featuring new methods, ideas, or approaches. (Section 437(d)(1) of GEPA.)

“Innovative Applications” means the creative and groundbreaking uses of technology in various fields, leveraging the latest advancements in technology to solve problems, improve efficiency, and enhance user experiences to a given scenario that enables forms of interactivity, adaptivity, or support that would otherwise be impracticable without that technology intervention. (Section 437(d)(1) of GEPA.)

“Life coaching services” means a collaborative and goal-oriented approach to help youth with disabilities and/or adults with disabilities make positive changes, set, and achieve personal or professional goals, and improve various aspects of their lives. (Section 437(d)(1) of GEPA.)

“Logic model” (also referred to as a theory of action) means a framework that identifies key proposed project components (as defined in 34 CFR 77.1) of the proposed project (i.e., the active “ingredients” that are hypothesized to be critical to achieving the relevant outcomes (as defined in 34 CFR 77.1)) and describes the theoretical and operational relationships among the key proposed project components and relevant outcomes. (34 CFR 77.1.)

“Nonprofit”, means as applied to an agency, organization, or institution, means that it is owned and operated by one or more corporations or associations whose net earnings do not benefit, and cannot lawfully benefit, any private shareholder or entity. (34 CFR part 77)

“Nonpublic”, as applied to an agency, organization, or institution, means that the agency, organization, or institution is nonprofit and is not under Federal or public supervision or control. (34 CFR part 77)

“Partners” means organizations or entities that join forces, collaborate, and work together towards implementing the project. (Section 437(d)(1) of GEPA.)

“Partnership” means two or more agencies, employers, or nonprofits working together cooperatively to reach a common goal pursuant to a formal Memorandum of Understanding among the partners and subject to the requirements of 2 CFR 200.332 and other relevant provisions of the Uniform Administrative Requirements, Cost Principles, and Audit Requirements for Federal Awards found at 2 CFR part 200. (Section 437(d)(1) of GEPA)

“Personalized Advanced Technology” means the use of state-of-the-art devices and programs to tailor experiences, products, or services to meet the specific needs and preferences of the individual with a disability. (Section 437(d)(1) of GEPA.)

“Project components” means an activity, strategy, intervention, process, product, practice, or policy included in a project. Evidence may pertain to an individual project component or to a combination of project components (e.g., training teachers on instructional practices for English learners and follow-on coaching for these teachers). (34 CFR 77.1(c)).

“Public” as applied to an agency, organization, or institution, means that the agency, organization, or institution is under the administrative supervision or control of a government other than the Federal Government. (34 CFR part 77)

“Refine” means to include a process of continuous improvement to ensure that project activities are reviewed against the project's goals and objectives, including securing feedback, through various methods (e.g., in-person, phone, virtual) from program participants throughout years two, three, four, and five. (Section 437(d)(1) of GEPA.)

“Reintegration” means the process, including activities and tasks, for successful reentry into the community, home, or workforce from the juvenile justice or criminal justice system. (Section 437(d)(1) of GEPA.)

“Wraparound Support” means a comprehensive and holistic approach to providing individualized care and services to support youth and/or adults with disabilities with complex needs, emphasizing a collaborative, strengths-based, family-centered approach to addressing the diverse needs of youth with disabilities and adults with disabilities and their support system.

“Youth with disabilities” means an individual between the ages of 14 and 24 who has a physical or mental impairment that results in a substantial impediment to competitive integrated employment. (Section 437(d)(1) of GEPA.)

Program Authority: Consolidated Appropriations Act, 2023 (Pub. L. 117-328), 136 Stat. 4892.

Waiver of Proposed Rulemaking: Under the Administrative Procedure Act (5 U.S.C. 553), the Department generally offers interested parties the opportunity to comment on proposed priorities, selection criteria, requirements, and definitions. Section 437(d)(1) of GEPA, however, allows the Secretary to exempt from rulemaking requirements regulations governing the first grant competition under a new or substantially revised program authority. This is the first grant competition for this program under the authority given in the Consolidated Appropriations Act, 2023, and, therefore, qualifies for this exemption. In order to ensure timely grant awards, the Secretary has decided to forego public comment on the priority, requirements, definitions, and selection criteria under section 437(d)(1) of GEPA. The priority, requirements, definitions, and selection criteria will apply to the FY 2024 grant competition and any subsequent year in which we make awards from the list of unfunded applications for this competition.

Note: Projects will be awarded and must be operated in a manner consistent with the nondiscrimination requirements contained in Federal civil rights laws.

Applicable Regulations: (a) The Education Department General Administrative Regulations in 34 CFR parts 75, 77, 79, 81, 82, 84, 86, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards (Uniform Guidance) in 2 CFR part 200, as adopted and amended as regulations of the Department in 2 CFR part 3474.

II. Award Information

Type of Award: Discretionary grants negotiated as cooperative agreements.

Estimated Available Funds: $236,313,221.00.

Contingent upon the availability of funds and the quality of applications, we may make additional awards in FY 2025 from the list of unfunded applications from this competition.

Estimated Range of Awards: $8,000,000-$10,000,000 (frontloaded for the 60-month project period).

Estimated Average Size: $9,000,000.

Estimated Number of Awards: 23-29.

Note: The Department is not bound by any estimates in this notice.

Project Period: Up to 60 months.

Note: The Final Performance Report must be completed and submitted by the end of the project period, September 30, 2029. Therefore, the project must complete core project activities to allow sufficient time for the evaluation and final performance report to be completed and submitted by the end of the project period on September 30, 2029.

Note: Applicants under this competition must provide detailed budget information for the total grant period, including detailed budget information for each of the five years of the proposed project. Applicants are encouraged to consider the impact of implementation of the proposed project when creating a year 1 budget. Applicants are also encouraged to consider the impact of the period of performance end date, September 30, 2029, when creating the year 5 budget.

Note: Grantees are expected to complete at least monthly drawdowns of expenditures.

Note: Subgrantees and Contractors are expected to report monthly invoices of expenditures to the grantees.

III. Eligibility Information

1. Eligible Applicants:

• State agencies or their equivalents under State law: (1) State Educational Agency; (2) State Juvenile Justice agency; (3) State Developmental Disabilities agency; (4) State Department of Health; (5) State Department of Human Services; or (6) Designated State unit for Vocational Rehabilitation Services.

• Public, Private and Nonprofit Entities, including Indian Tribes and Institutions of Higher Education.

Note: The regulations in 34 CFR part 79 apply to all applicants except federally recognized Indian Tribes.

Note: The regulations in 34 CFR part 86 apply to Institutions of Higher Education only.

Note: The regulation 34 CFR 75.51 How to prove nonprofit status applies to nonprofits and requires documentation to prove its nonprofit status. (a) Under some programs, an applicant must show that it is a nonprofit organization. (See the definition of nonprofit in 34 CFR 77.1.) (b) An applicant may show that it is a nonprofit organization by any of the following means: (1) Proof that the Internal Revenue Service currently recognizes the applicant as an organization to which contributions are tax deductible under section 501(c)(3) of the Internal Revenue Code; (2) A statement from a State taxing body or the State attorney general certifying that: (i) The organization is a nonprofit organization operating within the State; and (ii) No part of its net earnings may lawfully benefit any private shareholder or individual; (3) A certified copy of the applicant's certificate of incorporation or similar document if it clearly establishes the nonprofit status of the applicant; (4) Any item described in paragraphs (b)(1) through (3) of this section if that item applies to a State or national parent organization, together with a statement by the State or parent organization that the applicant is a local nonprofit affiliate; or (5) For an entity that holds a sincerely held religious belief that it cannot apply for a determination as an entity that is tax-exempt under section 501(c)(3) of the Internal Revenue Code, evidence sufficient to establish that the entity would otherwise qualify as a nonprofit organization under paragraphs (b)(1) through (4) of this section.

2. a. Cost Sharing or Matching: This competition does not require cost sharing or matching.

b. Indirect Cost Rate Information: This program uses an unrestricted indirect cost rate. For more information regarding indirect costs, or to obtain a negotiated indirect cost rate, please see www2.ed.gov/about/offices/list/ocfo/intro.html.

c. Administrative Cost Limitation: This program does not include any program-specific limitation on administrative expenses. All administrative expenses must be reasonable and necessary and conform to the Cost Principles described in 2 CFR part 200 subpart E of the Uniform Guidance.

d. Administrative Expenses:

(i) All administrative expenses incurred under the DIF program must be reasonable and necessary for the administration of the DIF program and must conform to the requirements of the Federal Cost Principles described in 2 CFR 200.403 through 200.405.

(ii) Although, in certain circumstances, proposed project participants served and services provided are the same under both the DIF programs and the State programs (e.g., State Educational Agency, State Juvenile Justice Agency, State Developmental Disabilities Agency, State Department of Health, DSU for VR Services, State Department of Human Services) and/or public, private, nonprofit entities, including Indian Tribes and Institutions of Higher Education) these are separate and distinct with separate and distinct funding streams and requirements. As such, when allocating administrative costs between the DIF programs and State programs and/or public, private, nonprofit entities, including Indian Tribes and Institutions of Higher Education, grantees must allocate the costs in accordance with the requirements of 2 CFR 200.405. This means that both DIF program and State program and/or public, private, nonprofit entities, including Indian Tribes and Institutions of Higher Education funds could be used to pay administrative costs associated with staff time providing services under certain circumstances; however, with respect to those administrative activities limited to the DIF program, such as submitting progress reports, grantees must use only DIF program funds (or other allowable funds) to pay these costs. This applies to grantees and subgrantees.

3. Subgrantees and Contracts: Under the Consolidated Appropriations Act, 2023, a grantee under this competition may award subgrants and contracts. Under this competition, subgrants and contracts may not exceed 75 percent of the funds. Under 34 CFR 75.708(b) and (c), a grantee under this competition may award subgrants and contracts—to directly carry out project activities described in its application—to the following types of entities: public and private, nonprofit entities, including DSU for VR services, State educational agencies, local educational agencies, parent training and information centers, Centers for Independent Living, Developmental Disabilities agencies, Juvenile Justice agencies, or independent and capable evaluation experts and organizations, such as institutions of higher education or nonprofit or for-profit research firms. The grantee may only award subgrants and contracts to entities it has identified in an approved application. Subrecipients may not further subgrant funds received under this award. The administration of the grant award must be conducted by the grant recipient and administrative costs of the project allocated to the DIF award.

IV. Application and Submission Information

1. Application Submission Instructions: Applicants are required to follow the Common Instructions for Applicants to Department of Education Discretionary Grant Programs, published in the Federal Register on December 7, 2022 (87 FR 75045) and available at https://www.federalregister.gov/documents/2022/12/07/2022-26554/common-instructions-for-applicants-to-department-of-education-discretionary-grant-programs, which contain requirements and information on how to submit an application. Please note that these Common Instructions supersede the version published on December 27, 2021.

2. Submission of Proprietary Information: Given the types of projects that may be proposed in applications for the DIF, your application may include business information that you consider proprietary. In 34 CFR 5.11 we define “business information” and describe the process we use in determining whether any of that information is proprietary and, thus, protected from disclosure under Exemption 4 of the Freedom of Information Act (5 U.S.C. 552, as amended).

Because we plan to make successful applications available to the public, you may wish to request confidentiality of business information.

Consistent with Executive Order 12600, please designate in your application any information that you believe is exempt from disclosure under Exemption 4. In the appropriate Appendix section of your application, under “Other Attachments Form,” please list the page number or numbers on which we can find this information. For additional information please see 34 CFR 5.11(c).

3. Intergovernmental Review: This competition is subject to Executive Order 12372 and the regulations in 34 CFR part 79. Information about Intergovernmental Review of Federal Programs under Executive Order 12372 is in the application package for this competition.

4. Funding Restrictions: We reference regulations outlining funding restrictions in the Applicable Regulations section of this notice.

5. Recommended Page Limit: The application narrative is where you, the applicant, address the selection criteria that reviewers use to evaluate your application. We recommend that you (1) limit the application narrative to no more than 45 pages and (2) use the following standards:

• A “page” is 8.5″ x 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

• Use one of the following fonts: Times New Roman, Courier, Courier New, or Arial.

The recommended page limit does not apply to the cover sheet; the budget section, including the narrative budget justification; the assurances and certifications; or the one-page abstract, the resumes, the bibliography, or the letters of support. However, the recommended page limit does apply to the application narrative.

6. Notice of Intent to Apply: The Department will be able to review grant applications more efficiently if we know the approximate number of applicants that intend to apply. Therefore, we strongly encourage each potential applicant to notify us of their intent to submit an application. To do so, please email the program contact person listed under FOR FURTHER INFORMATION CONTACT with the subject line “Intent to Apply,” and include the applicant's name and a contact person's name and email address. Applicants that do not submit a notice of intent to apply may still apply for funding; applicants that do submit a notice of intent to apply are not bound to apply or bound by the information provided.

V. Application Review Information

1. Selection Criteria: The selection criteria for this competition are from 34 CFR 75.210 or established for the FY 2024 grant competition and any subsequent year in which we make awards from the list of unfunded applications from this competition. The criteria are as follows:

(a) Significance. (up to 15 points)

(1) The Secretary considers the Significance of the proposed project.

(2) In determining the significance of the proposed project, the Secretary considers the following factors:

(i) The likely utility of the products (such as information, materials, processes, or techniques) that will result from the proposed project, including the potential for their being used effectively in a variety of other settings.

(ii) The extent to which the proposed project is likely to build local capacity to provide, improve, or expand services that address the needs of the target population.

(iii) The importance or magnitude of the results or outcomes likely to be attained by the proposed project, especially improvements in employment, independent living services, or both, as appropriate.

(b) Quality of the project design. (up to 25 points)

(1) The Secretary considers the quality of the design of the proposed project.

(2) In determining the quality of the design of the proposed project, the Secretary considers the following factors:

(i) The extent to which the design of the proposed project includes a thorough, high-quality review of the relevant literature, a high-quality plan for project implementation, and the use of appropriate methodological tools to ensure successful achievement of project objectives.

(ii) The extent to which the goals, objectives, and outcomes to be achieved by the proposed project are clearly specified and measurable.

(iii) The extent to which the design for implementing and evaluating the proposed project will result in information to guide possible replication of project activities or strategies, including information about the effectiveness of the approach or strategies employed by the project.

(iv) The extent to which the proposed project will establish linkages with other appropriate agencies and organizations providing services to the target population.

(v) The extent to which performance feedback and continuous improvement are integral to the design of the proposed project.

(c) Quality of project services. (up to 10 points)

(1) The Secretary considers the quality of the services to be provided by the proposed project.

(2) In determining the quality of the services to be provided by the proposed project, the Secretary considers the quality and sufficiency of strategies for ensuring equal access and treatment for eligible project participants who are members of groups that have traditionally been underrepresented based on race, color, national origin, gender, age, or disability.

(3) In addition, the Secretary considers the following factors:

(i) The extent to which the services to be provided by the proposed project involve the collaboration of appropriate partners for maximizing the effectiveness of project services.

(ii) The extent to which the training or professional development services to be provided by the proposed project are of sufficient quality, intensity, and duration to lead to improvements in practice among the recipients of those services.

(d) Quality of project personnel. (up to 5 points)

(1) The Secretary considers the quality of the personnel who will carry out the proposed project.

(2) In determining the quality of project personnel, the Secretary considers the extent to which the applicant encourages applications for employment from persons who are members of groups that have traditionally been underrepresented based on race, color, national origin, gender, age, or disability.

(3) In addition, the Secretary considers one or more of the following factors:

(i) The qualifications, including relevant training and experience, of key project personnel.

(e) Adequacy of resources. (up to 15 points)

(1) The Secretary considers the adequacy of resources for the proposed project.

(2) In determining the adequacy of resources for the proposed project, the Secretary considers the following factors:

(i) The extent to which the budget is adequate to support the proposed project.

(ii) The extent to which the costs are reasonable in relation to the objectives, design, and potential significance of the proposed project.

(iii) The extent to which the costs are reasonable in relation to the number of persons to be served and to the anticipated results and benefits.

(f) Quality of the management plan. (up to 15 points)

(1) The Secretary considers the quality of the management plan for the proposed project.

(2) In determining the quality of the management plan for the proposed project, the Secretary considers the following factors:

(i) The adequacy of the management plan to achieve the objectives of the proposed project on time and within budget, including clearly defined responsibilities, timelines, and milestones for accomplishing project tasks.

(ii) The adequacy of procedures for ensuring feedback and continuous improvement in the operation of the proposed project.

(iii) The adequacy of mechanisms for ensuring high-quality products and services from the proposed project.

(g) Quality of the project evaluation. (up to 15 points)

(1) The Secretary considers the quality of the evaluation to be conducted of the proposed project.

(2) In determining the quality of the evaluation, the Secretary considers the following factors:

(i) The extent to which the methods of evaluation are thorough, feasible, and appropriate to the goals, objectives, and outcomes of the proposed project.

(ii) The extent to which the methods of evaluation provide for examining the effectiveness of project implementation strategies.

(iii) The qualifications, including relevant training, experience, and independence of the evaluator.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary requires various assurances, including those applicable to Federal civil rights laws that prohibit discrimination in programs or activities receiving Federal financial assistance from the Department (34 CFR 100.4, 104.5, 106.4, 108.8, and 110.23).

For the FY 2024 grant competition and any subsequent year in which we make awards from the list of unfunded applications from this competition, in accordance with section 437(d)(1) of GEPA, in selecting an application for an award under this program, we also consider the geographical distribution of projects in the DIF program throughout the country. This factor will be applied after non-Federal reviewers score the applications. The geographical distribution of projects factor will be applied to fund applications out of rank order if the top-ranked applications do not represent a geographical distribution throughout the country. The topic area distribution of projects factor will be applied to fund applications out of rank order to ensure a range of topic areas are funded.

3. Risk Assessment and Specific Conditions: Consistent with 2 CFR 200.206, before awarding grants under this competition the Department conducts a review of the risks posed by applicants. Under 2 CFR 200.208, the Secretary may impose specific conditions and, under 2 CFR 3474.10, in appropriate circumstances, high-risk conditions on a grant if the applicant or grantee is not financially stable; has a history of unsatisfactory performance; has a financial or other management system that does not meet the standards in 2 CFR part 200, subpart D; has not fulfilled the conditions of a prior grant; or is otherwise not responsible.

4. Integrity and Performance System: If you are selected under this competition to receive an award that over the course of the project period may exceed the simplified acquisition threshold (currently $250,000), under 2 CFR 200.206(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

5. In General: In accordance with the Office of Management and Budget's guidance located at 2 CFR part 200, all applicable Federal laws, and relevant Executive guidance, the Department will review and consider applications for funding pursuant to this notice inviting applications in accordance with—

(a) Selecting recipients most likely to be successful in delivering results based on the program objectives through an objective process of evaluating Federal award applications (2 CFR 200.205);

(b) Prohibiting the purchase of certain telecommunication and video surveillance services or equipment in alignment with section 889 of the National Defense Authorization Act of 2019 (Pub. L. 115-232) (2 CFR 200.216);

(c) Providing a preference, to the extent permitted by law, to maximize use of goods, products, and materials produced in the United States (2 CFR 200.322); and

(d) Terminating agreements in whole or in part to the greatest extent authorized by law if an award no longer effectuates the program goals or agency priorities (2 CFR 200.340).

VI. Award Administration Information

1. Award Notices: If your application is successful, we notify your U.S. Representative and U.S. Senators and send you a Grant Award Notification (GAN); or we may send you an email containing a link to access an electronic version of your GAN. We also may notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of the project period, September 30, 2029, you must submit a final performance report, including financial information, as directed by the Secretary. If you receive a multiyear award, you must submit annual performance reports and end of year performance reports that provide the most current performance and financial expenditure information as directed by the Secretary under 34 CFR 75.118. The Secretary may also require more frequent performance reports under 34 CFR 75.720(c). For specific requirements on reporting, please go to www.ed.gov/fund/grant/apply/appforms/appforms.html.

(c) Under 34 CFR 75.250(b), the Secretary may provide a grantee with additional funding for data collection analysis and reporting. In this case, the Secretary establishes a data collection period.

5. Performance Measures:

The performance measures consist of both the program and project measures.

Program Measures: The program measures will be developed in collaboration with the Department and/or its contracted independent evaluator during the first three months (October 1, 2024-December 31, 2024) of the awards, program measure targets will be developed in collaboration with the Department and/or its contracted independent evaluator and reported during the second three months (January 1, 2025-March 31, 2025). Program performance measures may, for example, assess the impact of project activities on effective identification of resources and the sustainability and replicability of the project.

Project Measures: Under the absolute priority, grant recipients must develop and implement a plan to measure the innovative model demonstration project's performance and outcomes, including an evaluation of the practices and strategies implemented by the project. Grantees must evaluate project performance based on the following measures, as well as any measures individually developed by the project and include targets in the application:

(a) Number of individuals to be served by the project.

(b) Number of project referrals.

(c) Number of individuals participating in the project.

(d) Of the individuals participating in the project, the number of individuals who received services and did not achieve competitive integrated employment.

(e) Of the individuals participating in the project, the Pre- and post- project participation employment and wage outcomes.

(f) Of the individuals participating in the project, the demographics (e.g., gender, race, ethnic group).

(g) Of the individuals participating the project, the disability type.

(h) Of the individuals participating in the project, the number of individuals who achieve competitive integrated employment.

(i) The number of services professionals, including but not limited to employers, who completed professional training through the project.

(j) Of the services professionals who completed professional training, including but not limited to employers, the number who reported the training is high in quality, relevant, and useful to their work.

Note: The performance measures will be reported in the Annual Performance Report (Reporting Period October 1-March 30) and End of Year Performance Reports (Reporting Period October 1-September 30). For all five years of the project period, the cooperative agreement, as reviewed and amended as necessary during years 2-5, will specify the program and project measures that will be used to assess the grantees' performance in achieving the goals and objectives of the competition.

VII. Other Information

Accessible Format: On request to the program contact person listed under FOR FURTHER INFORMATION CONTACT, individuals with disabilities can obtain this document and a copy of the application package in an accessible format. The Department will provide the requestor with an accessible format that may include Rich Text Format (RTF) or text format (txt), a thumb drive, an MP3 file, braille, large print, audiotape, or compact disc, or other accessible format.

Electronic Access to This Document: The official version of this document is the document published in the Federal Register. You may access the official edition of the Federal Register and the Code of Federal Regulations at www.govinfo.gov. At this site you can view this document, as well as all other documents of this Department published in the Federal Register, in text or Portable Document Format (PDF). To use PDF, you must have Adobe Acrobat Reader, which is available free at the site.

You may also access documents of the Department published in the Federal Register by using the article search feature at: www.federalregister.gov. Specifically, through the advanced search feature at this site, you can limit your search to documents published by the Department.

Glenna Wright-Gallo,
Assistant Secretary for Special Education and Rehabilitative Services.

[FR Doc. 2024-07502 Filed 4-8-24; 8:45 am]

BILLING CODE 4000-01-P